DEPARTMENT OF THE INTERIOR

Bureau of Land Management

[14X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the east boundary, a portion of the subdivisional lines, a portion of Homestead Entry Surveys 57 and 173 and the subdivision of section 25, Township 9 North, Range 10 East, accepted October 22, 2013, and officially filed October 23, 2013, for Group 1110, Arizona.

This plat was prepared at the request of the United States Forest Service.

The plat, in three sheets, constituting the map of the legal descriptive boundary of the Davis-Monthan Air Force Base, and the survey in Townships 14 and 15 South, Ranges 14 and 15 East, accepted August 7, 2013, and officially filed August 9, 2013, for Group 1111, Arizona.

This plat was prepared at the request of the General Services Administration.

The plat representing the dependent resurvey of a portion of the subdivisional lines and a portion of the subdivision of section 8 and the subdivision of the NE¼ of the SW¼ of section 8, Township 7 South, Range 27 East, accepted September 4, 2013, and officially filed September 6, 2013, for Group 1119, Arizona.

This plat was prepared at the request of the Bureau of Land Management.

The San Bernardino Meridian, Arizona

The plat representing the subdivision of section 29 and the survey of the meanders of the present left bank of the Colorado River in section 29, Township 16 South, Range 22 East, accepted October 18, 2013, and officially filed October 18, 2013, for Group 1120, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2013-25869 Filed 10-30-13; 8:45 am]

BILLING CODE 4310-32-P